DEPARTMENT OF THE INTERIOR

National Park Service

Public Notice

AGENCY: National Park Service, Interior.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
CC-OZAR001-88 | Shane and Kimberly Van Steenis (Alley Spring Canoe Rental) | Ozark NSR.
CC-OZAR012-88 | Akers Ferry Canoe Rental, Inc | Ozark NSR.
CC-OZAR016-89 | Carr's Grocery & Canoe Rental | Ozark NSR.
CC-SLBE005-87 | G. Michael Grosvenor (Manitou Island Transit) | Sleeping Bear Dunes NL.

DATES: Effective Date: January 1, 2006.

FOR FURTHER INFORMATION CONTACT: Jo A. Pendry, Concession Program Manager, National Park Service, Washington, DC 20240, Telephone, 202/513-7156.

Dated: December 15, 2005.
Alfred J. Poole, III,
Acting Assistant Director, Business Services.

[FR Doc. 06-21 Filed 1-3-06; 8:45 am]

BILLING CODE 4312-53-M